DEPARTMENT OF ENERGY

Federal Energy Regulatory Commission

[Docket No. RP01-89-000]

Wyoming Interstate Company, Ltd.; Notice of Tariff Filing

November 15, 2000.

Take notice that on November 9, 2000, Wyoming Interstate Company, Ltd. (WIC), tendered for filing to become part of its FERC Gas Tariff, Second Revised Volume No. 2, Fifth Revised Sheet No. 4C to be effective January 1, 2001.

WIC states the purpose of this filing is to permit WIC to collect Gas Research Institute (GRI) charges associated with its transportation pursuant to the Commission's order issued September 19, 2000 in Docket No. RP00-313-000.

WIC further states that copies of this filing have been served on WIC's jurisdictional customers and public bodies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29684 Filed 11-20-00; 8:45 am]

BILLING CODE 6717-01-M